DEPARTMENT OF ENERGY

Office of Energy Efficiency and Renewable Energy

Proposed Agency Information Collection

AGENCY: Office of Energy Efficiency and Renewable Energy, Department of Energy.

ACTION: Notice and request for OMB review and comment.

SUMMARY: The Department of Energy (DOE) has submitted to the Office of Management and Budget (OMB) for clearance, a proposal for collection of information under the provisions of the Paperwork Reduction Act of 1995. The proposed collection will enable a user-based evaluation of submitted entries to the Bright Tomorrow Lighting Competition (L Prize®) competition. The L Prize competition was authorized to encourage development and deployment of highly energy efficient solid-state lighting products. The proposed collection will assist in evaluating the entries in a real-world environment to insure that winning products do not exhibit undesirable or poor qualities that are not identified from formal laboratory testing by the DOE. These undesirable attributes could be a hindrance to sales of the winning product and could negatively impact the energy reduction potential of the competition. Additionally, the DOE wishes to gauge program success by periodically obtaining quantitative data about the effectiveness of the promotions and campaigns which are directly tied to L Prize winners. The quantitative data will be a survey asking five qualitative questions about the occupant's overall satisfaction of the lights. The brief assessments will be collected by the site's partner sponsor and returned, along with the entrant lamps, to DOE at the conclusion of the field assessment.

DATES: Comments regarding this collection must be received on or before July 30, 2012. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503.

And to

James R. Brodrick, U.S. Department of Energy, 1000 Independence Avenue SW., Washington, DC 20585 or by email at James.Brodrick@ee.doe.gov.

FOR FURTHER INFORMATION CONTACT: James R. Brodrick, U.S. Department of Energy, 1000 Independence Avenue SW., Washington, DC 20585 or by email at James.Brodrick@ee.doe.gov.

SUPPLEMENTARY INFORMATION: This information collection request contains: (1) OMB No. New; (2) Information Collection Request Title: Bright Tomorrow Lighting Competition (L Prize®): Field Assessment and Post Prize Monitoring; (3) Type of Request: New collection; (4) Purpose: The Bright Tomorrow Lighting Competition was authorized in the Energy Independence and Security Act of 2007 (EISA), Subtitle E, Section 655, to encourage development and deployment of highly energy efficient solid-state lighting (SSL) products to replace several of the most common lighting products currently used in the United States. Field assessments contribute to the evaluation of L Prize entries in a wide range of lighting applications.

The field assessments evaluate energy use of the installed product, the lighting system performance compared to the existing technology, and user feedback. The objective of field testing is to obtain installation data and user acceptance, in order to evaluate the product and determine its potential to be declared a winner. Additionally, DOE plans to monitor the impact of the L Prize competition through post-prize monitoring of incentive programs, educational campaigns, and retail promotions. This monitoring will include measuring the number of customers reached, bulbs sold, energy savings, and other tangible benefits.; (5) Annual Estimated Number of Respondents: 526; (6) Annual Estimated Number of Total Responses: 526; (7) Annual Estimated Number of Burden Hours: 115; (8) Response Obligation: Voluntary. (9) Annual Estimated Reporting and Recordkeeping Cost Burden: $0.

Statutory Authority: 42 U.S.C. 17243.

Issued in Washington, DC on June 25, 2012.
Kathleen B. Hogan,
Deputy Assistant Secretary of Energy, Energy Efficiency and Renewable Energy.

[FR Doc. 2012-15984 Filed 6-28-12; 8:45 am]

BILLING CODE 6450-01-P